DEPARTMENT OF ENERGY

[OE Docket No. EA-216-E]

Application To Export Electric Energy; TransAlta Energy Marketing (U.S.) Inc.

AGENCY: Office of Electricity, Department of Energy.

ACTION: Notice of application.

SUMMARY: TransAlta Energy Marketing (U.S.) Inc. (Applicant or TEMUS) has applied for authorization to transmit electric energy from the United States to Canada pursuant to the Federal Power Act.

DATES: Comments, protests, or motions to intervene must be submitted on or before April 5, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On February 3, 2021, TEMUS filed an application with DOE (Application or App.) to transmit electric energy from the United States to Canada for a term of five years. TEMUS states that it “is a Delaware corporation with its principal place of business [in] Centralia, Washington.” App. at 1. TEMUS further represents that it “is an indirect subsidiary of TransAlta Corporation,” which is a Canada corporation headquartered in Calgary, Alberta.” Id. at 2. TEMUS represents that it “does not own any electric generation or transmission facilities and, as a power marketer, does not hold a franchise or service territory or native load obligation.” Id. at 7.

TEMUS further states that it “will export electricity purchased from electric utilities, federal power marketing agencies, qualifying cogeneration and small power production facilities, independent power producers, and other sellers.” App. at 7. TEMUS contends that its proposed transmission would not impair the sufficiency of the electric supply within the United States, and that its proposed transmission would neither impede nor tend to impede the sufficiency of electric supply within the United States. See App. at 8.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning TEMUS's application to export electric energy to Canada should be clearly marked with OE Docket No. EA-216-E. Additional copies are to be provided directly to Daryck Riddell, 110-12th Avenue SW, Calgary, Alberta T2P 2M1, Canada, Daryck_Riddell@transalta.com; Steve Lincoln, 1155 SW Morrison Street, Suite 200, Portland, OR 97205, Steve_Lincoln@transalta.com; Michael W. Brooks, 2001 M Street NW, Suite 900, Washington, DC 20036, michael.brooks@bracewell.com; and Tracey L. Bradley, 2001 M Street NW, Suite 900, Washington, DC 20036, tracey.bradley@bracewell.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at http://energy.gov/node/11845, or by emailing Matt Aronoff at matthew.aronoff@hq.doe.gov.

Signed in Washington, DC, on March 1, 2021.
Christopher Lawrence,
Management and Program Analyst, Energy Resilience Division, Office of Electricity.

[FR Doc. 2021-04643 Filed 3-4-21; 8:45 am]

BILLING CODE 6450-01-P